ENVIRONMENTAL PROTECTION AGENCY

[EPA-HQ-OPP-2013-0617; FRL 9912-33-OEI]

Information Collection Request Submitted to OMB for Review and Approval; Comment Request; Experimental Use Permits for Pesticides (Renewal)

AGENCY: Environmental Protection Agency (EPA).

ACTION: Notice.

SUMMARY: EPA has submitted the following information collection request (ICR) to the Office of Management and Budget (OMB) for review and approval in accordance with the Paperwork Reduction Act (44 U.S.C. 3501 et seq.): Experimental Use Permits (EUPs) for Pesticides (EPA ICR No. 0276.15, OMB Control No. 2070-0040). EPA did not receive any comments in response to the previously provided public review opportunity issued in the Federal Register on September 25, 2013 (78 FR 59014). With this submission, EPA is providing an additional 30 days for public comments. An Agency may not conduct or sponsor and a person is not required to respond to a collection of information unless it displays a currently valid OMB control number.

DATES: Comments must be submitted on or before July 25, 2014.

ADDRESSES: Submit your comments to (1) EPA, referencing Docket ID Number EPA-HQ-OPP-2013-0617, online using http://www.regulations.gov (our preferred method) or by mail to: EPA Docket Center, Environmental Protection Agency, Mail Code 28221T, 1200 Pennsylvania Ave. NW., Washington, DC 20460, and (2) OMB, addressed to “OMB Desk Officer for EPA” and referencing OMB Control No. 2070-0040, via email to oira_submission@omb.eop.gov.

EPA's policy is that all comments received will be included in the public docket without change including any personal information provided, unless the comment includes profanity, threats, information claimed to be Confidential Business Information (CBI) or other information whose disclosure is restricted by statute.

FOR FURTHER INFORMATION CONTACT: Ryne Yarger, Field and External Affairs Division, Office of Pesticide Programs, 7506P, Environmental Protection Agency, 1200 Pennsylvania Ave. NW., Washington, DC 20460; telephone number: 703-605-1193; fax number: 703-305-5884; email address: yarger.ryne@epa.gov.

SUPPLEMENTARY INFORMATION:

Docket: The ICR, which explains in detail the information collection activities and the related burden and cost estimates, is summarized in this document and is available in the docket for this ICR. The docket can be viewed online at http://www.regulations.gov or in person at the EPA Docket Center, William Jefferson Clinton (WJC) Building, West Room 3334, 1301 Constitution Ave. NW., Washington, DC. The telephone number for the Docket Center is 202-566-1744. For additional information about EPA's docket, visit http://www.epa.gov/dockets.

ICR Title: Experimental Use Permits (EUPs) for Pesticides.

ICR numbers: EPA ICR No. 0276.15, OMB Control No. 2070-0040.

ICR status: The current OMB approval for this ICR is scheduled to expire on June 30, 2014. Under OMB regulations, the Agency may continue to conduct or sponsor the collection of information while this submission is pending at OMB.

Abstract: The Federal Insecticide, Fungicide, and Rodenticide Act (FIFRA) requires that before a pesticide product may be distributed or sold in the United States, it must be registered by EPA. Section 5 of FIFRA authorizes EPA to issue experimental use permits (EUPs) which allow companies to temporarily ship pesticide products for experimental use for the purpose of gathering data necessary to support the application for registration of a pesticide product. In general, EUPs are issued either for a pesticide not registered with the Agency or for a new use of a registered pesticide. The EUP application must be submitted in order to obtain a permit. This information collection provides EPA with the data necessary to determine whether to issue a EUP under section 5 of FIFRA.

Form Numbers: EPA Form 8570-17—Application for an Experimental Use Permit to Ship and Use a Pesticide for Experimental Purposes Only.

Respondents/affected entities: Entities potentially affected by this ICR include individuals or entities engaged in pesticide, fertilizer, and other agricultural chemical manufacturing. The NAICS codes for respondents under this ICR include: 325320 (Pesticide and other Agricultural Chemical Manufacturing).

Respondent's obligation to respond: Mandatory (40 CFR 172).

Estimated number of respondents: 30 (total).

Estimated number of responses per respondent: 1.

Frequency of response: On occasion.

Total estimated annual burden: 556 hours (per year). Burden is defined at 5 CFR 1320.3(b).

Total estimated annual cost: $33,872 (per year). There are no capital or operation & maintenance costs associated with this information collection.

Changes in the Estimates: There is a decrease of 1,351 hours in the total estimated respondent burden compared with the ICR currently approved by OMB. This decrease reflects EPA's updating of burden estimates for this collection based upon historical information indicating a reduced number of EUP submissions for chemical pesticides, as well as a decrease in the number of EUP applications that are plant-incorporated protectants. This change is an adjustment.

Spencer W. Clark,
Acting Director, Collection Strategies Division.

[FR Doc. 2014-14877 Filed 6-24-14; 8:45 am]

BILLING CODE 6560-50-P